LEGAL SERVICES CORPORATION

Sunshine Act Meeting of the Board of Directors Finance Committee

TIME AND DATE: The Finance Committee of the Legal Services Corporation Board of Directors will meet on August 23, 2002. The meeting will begin at 3:30 p.m. and continue until the Committee concludes its agenda.

LOCATION: The Marriott at Metro Center, 775 12th Street, NW, Washington, DC.

STATUS OF MEETING: Open.

Matters to be Considered: 1. Approval of agenda.

2. Approval of the minutes of the Committee's meeting of May 31, 2002.

3. Report on the projected operating expenses for Fiscal Year 2002 based on operating experiences through June 30, 2002.

4. Report on the internal budgetary adjustments.

5. Consider and act on the President's recommendations for Consolidated Operating Budget reallocations.

6. Consider and act on proposed Temporary Operating Budget for Fiscal Year 2003.

7. Consider and act on budget mark for Fiscal Year 2004, including receipt of public comment.

8. Consider and act on other business.

9. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: August 16, 2002.
Victor M. Fortuno,
Vice President for Legal Affairs, General Counsel & Corporate Secretary.

[FR Doc. 02-21360 Filed 8-16-02; 5:01 pm]

BILLING CODE 7050-01-P